DEPARTMENT OF TRANSPORTATION

Federal Motor Carrier Safety Administration

[Docket No. FMCSA-2018-0018]

Qualification of Drivers; Exemption Applications; Vision

AGENCY: Federal Motor Carrier Safety Administration (FMCSA), DOT.

ACTION: Notice of applications for exemption; request for comments.

SUMMARY: FMCSA announces receipt of applications from 11 individuals for an exemption from the vision requirement in the Federal Motor Carrier Safety Regulations (FMCSRs) to operate a commercial motor vehicle (CMV) in interstate commerce. If granted, the exemptions will enable these individuals to operate CMVs in interstate commerce without meeting the vision requirement in one eye.

DATES: Comments must be received on or before November 23, 2018.

ADDRESSES: You may submit comments identified by the Federal Docket Management System (FDMS) Docket No. FMCSA-2018-0018 using any of the following methods:

• Federal eRulemaking Portal: Go to http://www.regulations.gov. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: 1-202-493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are 8:30 a.m. to 5 p.m., ET, Monday through Friday, except Federal holidays. If you have questions regarding viewing or submitting material to the docket, contact Docket Services, telephone (202) 366-9826.

SUPPLEMENTARY INFORMATION:

I. Public Participation

A. Submitting Comments

If you submit a comment, please include the docket number for this notice Docket No. FMCSA-2018-0018, indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2018-0018, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in this notice as being available in the docket, go to http://www.regulations.gov. Insert the docket number, FMCSA-2018-0018, in the keyword box, and click “Search.” Next, click the “Open Docket Folder” button and choose the document to review. If you do not have access to the internet, you may view the docket online by visiting the Docket Management Facility in Room W12-140 on the Ground Floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

Under 49 U.S.C. 31136(e) and 31315, FMCSA may grant an exemption from the FMCSRs for a five-year period if it finds “such exemption would likely achieve a level of safety that is equivalent to or greater than the level that would be achieved absent such exemption.” The statute also allows the Agency to renew exemptions at the end of the five-year period. FMCSA grants exemptions from the FMCSRs for a two-year period to align with the maximum duration of a driver's medical certification.

The 11 individuals listed in this notice have requested an exemption from the vision requirement in 49 CFR 391.41(b)(10). Accordingly, the Agency will evaluate the qualifications of each applicant to determine whether granting an exemption will achieve the required level of safety mandated by statute.

The physical qualification standard for drivers regarding vision found in 49 CFR 391.41(b)(10) states that a person is physically qualified to drive a CMV if that person has distant visual acuity of at least 20/40 (Snellen) in each eye without corrective lenses or visual acuity separately corrected to 20/40 (Snellen) or better with corrective lenses, distant binocular acuity of at least 20/40 (Snellen) in both eyes with or without corrective lenses, field of vision of at least 70° in the horizontal Meridian in each eye, and the ability to recognize the colors of traffic signals and devices showing standard red, green, and amber.

In July 1992, the Agency first published the criteria for the Vision Waiver Program, which listed the conditions and reporting standards that CMV drivers approved for participation would need to meet (Qualification of Drivers; Vision Waivers, 57 FR 31458, July 16, 1992). The current Vision Exemption Program was established in 1998, following the enactment of amendments to the statutes governing exemptions made by § 4007 of the Transportation Equity Act for the 21st Century (TEA-21), Public Law 105-178, 112 Stat. 107, 401 (June 9, 1998). Vision exemptions are considered under the procedures established in 49 CFR part 381 subpart C, on a case-by-case basis upon application by CMV drivers who do not meet the vision standards of 49 CFR 391.41(b)(10).

To qualify for an exemption from the vision requirement, FMCSA requires a person to present verifiable evidence that he/she has driven a commercial vehicle safely with the vision deficiency for the past three years. Recent driving performance is especially important in evaluating future safety, according to several research studies designed to correlate past and future driving performance. Results of these studies support the principle that the best predictor of future performance by a driver is his/her past record of crashes and traffic violations. Copies of the studies may be found at Docket Number FMCSA-1998-3637.

FMCSA believes it can properly apply the principle to monocular drivers, because data from the Federal Highway Administration's (FHWA) former waiver study program clearly demonstrated the driving performance of experienced monocular drivers in the program is better than that of all CMV drivers collectively (See 61 FR 13338, 13345, March 26, 1996). The fact that experienced monocular drivers demonstrated safe driving records in the waiver program supports a conclusion that other monocular drivers, meeting the same qualifying conditions as those required by the waiver program, are also likely to have adapted to their vision deficiency and will continue to operate safely.

The first major research correlating past and future performance was done in England by Greenwood and Yule in 1920. Subsequent studies, building on that model, concluded that crash rates for the same individual exposed to certain risks for two different time periods vary only slightly (See Bates and Neyman, University of California Publications in Statistics, April 1952). Other studies demonstrated theories of predicting crash proneness from crash history coupled with other factors. These factors—such as age, sex, geographic location, mileage driven and conviction history—are used every day by insurance companies and motor vehicle bureaus to predict the probability of an individual experiencing future crashes (See Weber, Donald C., “Accident Rate Potential: An Application of Multiple Regression Analysis of a Poisson Process,” Journal of American Statistical Association, June 1971). A 1964 California Driver Record Study prepared by the California Department of Motor Vehicles concluded that the best overall crash predictor for both concurrent and nonconcurrent events is the number of single convictions. This study used three consecutive years of data, comparing the experiences of drivers in the first two years with their experiences in the final year.

III. Qualifications of Applicants

Brian K. Aldridge

Mr. Aldridge, 46, has had amblyopia in his left eye since childhood. The visual acuity in his right eye is 20/20, and in his left eye, 20/400. Following an examination in 2018, his optometrist stated, “My medical opinion is that patient has sufficient vision to perform driving tasks required for commercial vehicle.” Mr. Aldridge reported that he has driven straight trucks for seven years, accumulating 54,600 miles. He holds a Class B CDL from Ohio. His driving record for the last three years shows no crashes and no convictions for moving violations in a CMV.

Peter A. Clarke

Mr. Clarke, 53, has macular scarring in his left eye due to a traumatic incident in his childhood. The visual acuity in his right eye is 20/20, and in his left eye, counting fingers. Following an examination in 2018, his optometrist stated, “I attest that Peter Clarke has sufficient vision to qualify to operate a commercial vehicle.” Mr. Clarke reported that he has driven straight trucks for 15 years, accumulating 225,000 miles. He holds an operator's license from Washington. His driving record for the last three years shows no crashes and one conviction for a moving violation in a CMV; failure to obey traffic control device.

Lane D. Fuller

Mr. Fuller, 25, has had neuroretinitis in his right eye since 2010. The visual acuity in his right eye is no light perception, and in his left eye, 20/20. Following an examination in 2018, his optometrist stated, “I feel Lane has excellent vision with his left eye and can safely operate a commercial vehicle with his VA and field of vision of his left eye.” Mr. Fuller reported that he has driven straight trucks for seven years, accumulating 143,000 miles, and tractor-trailer combinations for seven years, accumulating 364,000 miles. He holds a Class A CDL from Kansas. His driving record for the last three years shows no crashes and no convictions for moving violations in a CMV.

Justin M. Goins

Mr. Goins, 34, has a retinal detachment in his right eye due to a traumatic incident in childhood. The visual acuity in his right eye is no light perception, and in his left eye, 20/20. Following an examination in 2018, his optometrist stated, “It is my opinion that Justin Goins has sufficient vision to operate a commercial vehicle.” Mr. Goins reported that he has driven straight trucks for eight years, accumulating 76,000 miles, and tractor-trailer combinations for eight years, accumulating 32,000 miles. He holds an operator's license from Michigan. His driving record for the last three years shows no crashes and no convictions for moving violations in a CMV.

Alfred R. Knotts, Jr.

Mr. Knotts, 56, has had complete loss of vision in left eye since birth. The visual acuity in his right eye is 20/20, and in his left eye, no light perception. Following an examination in 2018, his ophthalmologist stated, “This is to certify that in my opinion Mr. Alfred R. Knotts Jr. clearly has sufficient vision to perform the driving tasks required to operate a commercial vehicle.” Mr. Knotts reported that he has driven straight trucks for 26 years, accumulating 156,000 miles. He holds a Class B CDL from Pennsylvania. His driving record for the last three years shows no crashes and no convictions for moving violations in a CMV.

Margurette Mungro

Ms. Mungro, 58, has had a retinal detachment in her left eye since 2014. The visual acuity in her right eye is 20/30, and in her left eye, 20/100. Following an examination in 2018, her ophthalmologist stated, “In my opinion she does have sufficient vision to drive comerical veHICLE [sic].” Ms. Mungro reported that she has driven tractor-trailer combinations for 36 years, accumulating 3.6 million miles. She holds a Class A CDL from North Carolina. Her driving record for the last three years shows no crashes and no convictions for moving violations in a CMV.

Jerome Nezworski

Mr. Nezworski, 64, has had amblyopia in his left eye since childhood. The visual acuity in his right eye is 20/20, and in his left eye, 20/60. Following an examination in 2018, his ophthalmologist stated, “In my medical opinion, patient has sufficient vision to perform driving tasks associated with operating a commercial vehicle.” Mr. Nezworski reported that he has driven straight trucks for 42 years, accumulating 1 million miles. He holds a Class CD CDL from Michigan. His driving record for the last three years shows no crashes and no convictions for moving violations in a CMV.

James E. Smith

Mr. Smith, 39, has had a central retinal vein occlusion in his right eye since 2014. The visual acuity in his right eye is light perception, and in his left eye, 20/20. Following an examination in 2018, his optometrist stated, “In my medical opinion, James has sufficient vision to perform driving tasks required to operate a commercial vehicle.” Mr. Smith reported that he has driven straight trucks for 20 years, accumulating 800,000 miles, and tractor-trailer combinations for seven years, accumulating 210,000 miles. He holds a Class A CDL from Florida. His driving record for the last three years shows no crashes and no convictions for moving violations in a CMV.

Marcel Spinu

Mr. Spinu, 54, had a retinal detachment in his right eye due to a traumatic incident in 1999. The visual acuity in his right eye is light perception, and in his left eye, 20/20. Following an examination in 2018, his optometrist stated, “In my medical opinion, patient has sufficient vision to perform driving tasks require [sic] to operate a commercial vehicle.” Mr. Spinu reported that he has driven straight trucks for one year, accumulating 50,000 miles, and tractor-trailer combinations for 14 years, accumulating 1.54 million miles. He holds an operator's license from Washington. His driving record for the last three years shows no crashes and no convictions for moving violations in a CMV.

Francisco J. Torres

Mr. Torres, 51, has a prosthetic right eye due to a traumatic incident in childhood. The visual acuity in his right eye is no light perception, and in his left eye, 20/20. Following an examination in 2018, his optometrist stated, “Left eye is best corrected to 20/20 at distance and near and is stable. From all the findings, he is able to perform the driving tasks required to operate a commercial vehicle.” Mr. Torres reported that he has driven straight trucks for 30 years, accumulating 1.2 million miles, and tractor-trailer combinations for 30 years, accumulating 1.2 million miles. He holds a Class AM CDL from Pennsylvania. His driving record for the last three years shows no crashes and no convictions for moving violations in a CMV.

William Walden

Mr. Walden, 58, has a macular scar in his right eye due to a traumatic incident in childhood. The visual acuity in his right eye is hand motion, and in his left eye, 20/20. Following an examination in 2018, his optometrist stated, “My medical opinion is that Mr. Walden has sufficient vision to perform the driving tasks required to operate a commercial vehicle.” Mr. Walden reported that he has driven straight trucks for 35 years, accumulating 1.68 million miles. He holds a Class BM CDL from Alabama. His driving record for the last three years shows one crash, for which he was not cited, and no convictions for moving violations in a CMV.

IV. Request for Comments

In accordance with 49 U.S.C. 31136(e) and 31315, FMCSA requests public comment from all interested persons on the exemption petitions described in this notice. We will consider all comments and material received before the close of business on the closing date indicated in the dates section of the notice.

Issued on: October 15, 2018.
Larry W. Minor,
Associate Administrator for Policy.

[FR Doc. 2018-23232 Filed 10-23-18; 8:45 am]

BILLING CODE 4910-EX-P